DEPARTMENT OF LABOR

Employment and Training Administration

[TA-W-51,241I]

Chicago Cold Rolling, a Subsidiary of Bethlehem Steel Corporation, Portage, IN; Amended Certification Regarding Eligibility To Apply for Worker Adjustment Assistance

In accordance with Section 223 of the Trade Act of 1974 (19 U.S.C. 2273) the Department of Labor issued a Certification of Eligibility to Apply for Worker Adjustment Assistance on May 16, 2003, applicable to workers of Chicago Cold Rolling, a subsidiary of Bethlehem Steel Corporation, Currently Known as International Steel Group, Chicago, Illinois. The notice was published in the Federal Register on June 3, 2003 (68 FR 33195).

At the request of the petitioners, the Department reviewed the certification for workers of the subject firm. New findings show that the Department incorrectly identified the city and state location of the subject firm. Therefore, the Department is amending the certification determination to correctly identify the city and state location to read Portage, Indiana.

The amended notice applicable to TA-W-51,241I is hereby issued as follows:

All workers of Bethlehem Steel Corporation, Currently Known as International Steel Group, Sparrows Point, Maryland (TA-W-51,241), Bethlehem Steel Corporation, Currently Known as International Steel Group, Lackawanna, New York (TA-W-51, 241A), Bethlehem Steel Corporation, Currently Known as International Steel Group, Coatesville, Pennsylvania (TA-W-51,241B), Bethlehem Steel Corporation, Currently Known as International Steel Group, Conshohocken, Pennsylvania (TA-W-51,241C), Bethlehem Steel Corporation, Bethlehem, Pennsylvania (TA-W-51,241G), Bethlehem Steel Corporation, Government Affairs Office, Washington, D.C. (TA-W-51,241H), and Chicago Cold Rolling, a subsidiary of Bethlehem Steel Corporation, Currently Known as International Steel Group, Portage, Indiana (TA-W-51,241I), who became totally or partially separated from employment on or after March 19, 2002, through May 16, 2005, are eligible to apply for adjustment assistance under Section 223 of the Trade Act of 1974.

Signed at Washington, DC this 21st day of October 2003.
Richard Church,
Certifying Officer, Division of Trade Adjustment Assistance.

[FR Doc. 03-29133 Filed 11-20-03; 8:45 am]

BILLING CODE 4510-30-P